DEPARTMENT OF DEFENSE

Defense Acquisition Regulations System

48 CFR Parts 207, 209, 211, 215, 237, 242, 245, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective June 7, 2016.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Directs contracting officers to DFARS Procedures, Guidance, and Information (PGI) for information on the Governmentwide moratorium on public-private competitions by adding a cross reference at DFARS 207.302 and 237.102(b);

2. Corrects a typographical error at DFARS 209.505-4(b)(ii);

3. Updates hyperlinks to information on passive radio frequency identification at DFARS 211.275-2(a)(2) and paragraphs (b)(1)(ii) and (d)(2) of DFARS clause 252.211-7006;

4. Corrects a threshold at DFARS 215.408(3)(ii)(A)(1)(i) to reflect $700,000 in lieu of $750,000 because that threshold was not subject to the inflation adjustment at DFARS Case 2014-D025 published in the Federal Register at 80 FR 36903;

5. Updates DFARS 237.102-75 to reference the “Defense Acquisition Guidebook, Chapter 14, Acquisition of Services” instead of the “Guidebook for the Acquisition of Services;”

6. Updates DFARS 237.102-77 to reference the “Acquisition Requirements Roadmap Tool” instead of the “Automated Requirements Roadmap Tool;”

7. Corrects a cross reference at DFARS 242.7202(a) by changing paragraph (e) to paragraph (d) of the clause at 252.242.7004; and

8. Corrects a cross reference at DFARS 245.102(4)(i) by changing PGI 245.201-71 to PGI 245.103-72.

List of Subjects in 48 CFR 207, 209, 211, 215, 237, 242, 245, and 252

Government procurement.

Jennifer L. Hawes,
Editor, Defense Acquisition Regulations System.

Therefore, 48 CFR parts 207, 209, 211, 215, 237, 242, 245, and 252 are amended as follows:

1. The authority citation for 48 CFR parts 207, 209, 211, 215, 237, 242, 245, and 252 continues to read as follows:

Authority: 41 U.S.C. 1303 and 48 CFR chapter 1.

PART 207—ACQUISITION PLANNING

2. Add subpart 207.3 to read as follows:

Subpart 207.3—Contractor Versus Government Performance
Sec.
207.302 Policy.

Subpart 207.3—Contractor Versus Government Performance

207.302 Policy.

See PGI 207.302 for information on the Governmentwide moratorium and restrictions on public-private competitions conducted pursuant to Office of Management and Budget (OMB) Circular A-76.

PART 209—CONTRACTOR QUALIFICATIONS

209.505-4 [Amended]

3. In section 209.505-4, amend paragraph (b)(ii) by removing “nondisclosure” and adding “non-disclosure” in its place everywhere it appears.

PART 211—DESCRIBING AGENCY NEEDS

211.275-2 [Amended]

4. In section 211.275-2, amend paragraph (a)(2) introductory text by removing “http://www.acq.osd.mil/log/rfid/” and adding “http://www.acq.osd.mil/log/sci/RFID_ship-to-locations.html” in its place.

PART 215—CONTRACTING BY NEGOTIATION

215.408 [Amended]

5. Amend section 215.408, in paragraph (3)(ii)(A)(1)(i), by removing “$750,000” and adding “$700,000” in its place.

PART 237—SERVICE CONTRACTING

6. Amend section 237.102 by adding paragraph (b) to read as follows:

237.102 Policy.

(b) See PGI 207.302 for information on the Governmentwide moratorium and restrictions on public-private competitions conducted pursuant to Office of Management and Budget (OMB) Circular A-76.

* * * * *

7. Revise section 237.102-75 to read as follows:

237.102-75 Defense Acquisition Guidebook.

See PGI 237.102-75 for information on the Defense Acquisition Guidebook, Chapter 14, Acquisition of Services.

237.102-77 [Amended]

8. In section 237.102-77, amend the heading and the introductory text by removing “Automated” and adding “Acquisition” in both places.

PART 242—CONTRACT ADMINISTRATION AND AUDIT SERVICES

242.7202 [Amended]

9. In section 242.7202, amend paragraph (a) introductory text by removing “paragraph (e)” and adding “paragraph (d)” in its place.

PART 245—GOVERNMENT PROPERTY

245.102 [Amended]

10. In section 245.102, amend paragraph (4)(i) by removing “PGI 245.201-71” and adding “PGI 245.103-72” in its place.

PART 252—SOLICITATION PROVISIONS AND CONTRACT CLAUSES

252.211-7006 [Amended]

11. Amend section 252.211-7006 by—

a. Removing the clause date “(SEP 2011)” and adding “(JUN 2016)” in its place;

b. In paragraph (b)(1)(ii) introductory text, removing “http://www.acq.osd.mil/log/rfid/” and adding “http://www.acq.osd.mil/log/sci/RFID_ship-to-locations.html” in its place;

c. In paragraph (d)(2), removing “located at http://www.acq.osd.mil/log/rfid/tag_data.htm” and adding “located in the DoD Suppliers' Passive RFID Information Guide at http://www.acq.osd.mil/log/sci/ait.html” in its place.

[FR Doc. 2016-13258 Filed 6-6-16; 8:45 am]

BILLING CODE 5001-06-P